NUCLEAR REGULATORY COMMISSION

[Docket Nos. 030-05219, 030-14482, and 070-00124]

Notice of Finding of No Significant Impact and Availability of Environmental Assessment for License Amendment of Materials License Nos. 29-00055-06, 29-00055-15, AND SNM-107 (Teledyne Brown Engineering, Inc., Westwood, NJ)

I. Introduction

The U.S. Nuclear Regulatory Commission (NRC) is considering issuing license amendments to Teledyne Brown Engineering, Inc. for Materials License Nos. 29-00055-06, 29-00055-15, and SNM-107, to authorize release of its facilities in Westwood and Plainfield, New Jersey, for unrestricted use and has prepared an Environmental Assessment (EA) in support of this action in accordance with the requirements of 10 CFR part 51. Based on the EA, the NRC has concluded that a Finding of No Significant Impact (FONSI) is appropriate.

II. EA Summary

The purpose of the proposed action is to allow for the release of the licensee's Westwood and Plainfield, New Jersey, facilities for unrestricted use. Teledyne Brown Engineering, Inc. has been authorized by NRC since 1964 to use radioactive materials for analytical services, research and development, precious metals recovery, and other similar purposes at these sites. On February 7, 2003, Teledyne Brown Engineering, Inc. requested that NRC release the facilities for unrestricted use. Teledyne Brown Engineering, Inc. has conducted surveys of the facilities and determined that the facilities meet the license termination criteria in subpart E of 10 CFR part 20.

III. Finding of No Significant Impact

The NRC staff has evaluated Teledyne Brown Engineering's request and the results of the surveys and has concluded that the completed action complies with 10 CFR part 20. The staff has prepared the EA (summarized above) in support of the proposed license amendment to terminate the license and release the facility for unrestricted use. On the basis of the EA, NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession No. ML031350057). Any questions with respect to this action should be referred to Betsy Ullrich, Nuclear Materials Safety Branch 2, Division of Nuclear Materials Safety, Region I, 475 Allendale Road, King of Prussia, Pennsylvania, 19406, telephone (610) 337-5040, fax (610) 337-5269.

Dated at King of Prussia, Pennsylvania this 15th day of May, 2003.
For the Nuclear Regulatory Commission
John D. Kinneman,
Chief, Nuclear Materials Safety Branch 2, Division of Nuclear Materials Safety, Region I.

[FR Doc. 03-12846 Filed 5-21-03; 8:45 am]

BILLING CODE 7590-01-P